DEPARTMENT OF HEALTH AND HUMAN SERVICES

Food and Drug Administration

Infant Formula Subcommittee of the Food Advisory Committee; Notice of Meeting

AGENCY: Food and Drug Administration, HHS.

ACTION: Notice.

This notice announces a forthcoming meeting of a public advisory committee of the Food and Drug Administration (FDA). The meeting will be open to the public.

Name of Committee: Infant Formula Subcommittee of the Food Advisory Committee.

General Function of the Committee: To provide advice and recommendations to the agency on scientific issues and principals related to FDA's regulatory issues.

Date and Time: The meeting will be held on November 18, 2002, from 8 a.m. to 6 p.m. and November 19, 2002, from 8 a.m. to 5 p.m.

Location: U.S. Department of Agriculture, Animal and Plant Health Inspection Service, Conference Center, 4700 River Rd., Riverdale, MD, 301-734-8010.

Contact Person: Jeanne E. Latham, Center for Food Safety and Applied Nutrition (HFS-800), Food and Drug Administration, 5100 Paint Branch Pkwy., College Park, MD 20740, 301-436-1756, or FDA Advisory Committee Information Line, 1-800-741-8138 (301-443-0572 in the Washington, DC area), code 10564. Please call the Information Line for up-to-date information on this meeting.

Agenda: The meeting's purpose is to discuss the scientific issues and principles involved in assessing and evaluating whether a “new” infant formula supports normal physical growth in infants when consumed as a sole source of nutrition. This is the second meeting of a series of advisory committee meetings to discuss the scientific issues involved in evaluating whether a new infant formula supports normal physical growth.

FDA will post information relating to this meeting on the Internet at http://www.cfsan.fda.gov/~lrd/vidtel.html.

Procedure: Interested persons may present data, information, or views, orally or in writing, on issues pending before the committee. Written submissions may be made to the contact person by November 1, 2002. Oral presentations from the public will be scheduled between approximately 8:30 a.m. and 9:30 a.m. on November 19, 2002. Time allotted for each presentation may be limited. Those desiring to make formal oral presentations should notify the contact person before November 13, 2002, and submit a brief statement of the general nature of the evidence or arguments they wish to present, the names and addresses of proposed participants, and an indication of the approximate time requested to make their presentation.

Persons attending FDA's advisory committee meetings are advised that the agency is not responsible for providing access to electrical outlets.

FDA welcomes the attendance of the public at its advisory committee meetings and will make every effort to accommodate persons with physical disabilities or special needs. If you require special accommodations due to a disability, please contact Jeanne E. Latham at least 7 days in advance of the meeting.

Notice of this meeting is given under the Federal Advisory Committee Act (5 U.S.C. app. 2).

Dated: October 9, 2002.
Linda Arey Skladany,
Senior Associate Commissioner for External Relations.

[FR Doc. 02-26325 Filed 10-15-02; 8:45 am]

BILLING CODE 4160-01-S